DEPARTMENT OF INTERIOR

National Park Service

[NPS-SERO-OBRI-NPS0027212; PPSESEROC3, PPMPSAS1Y.YP0000]

Determination of Eligibility for Consideration as Wilderness Areas, Obed Wild and Scenic River

AGENCY: National Park Service, Interior.

ACTION: Notice of determination of wilderness eligibility for lands in Obed Wild and Scenic River.

SUMMARY: Pursuant to the Wilderness Act of 1964, and in accordance with National Park Service (NPS) Management Policies (2006), Section 6.2.1, the NPS has completed a Wilderness Eligibility Assessment to determine if lands within Obed Wild and Scenic River (Obed WSR) meet criteria indicating eligibility for preservation as wilderness. Based on the assessment, the NPS has concluded that the assessed lands: (1) Are not predominantly roadless and undeveloped; (2) are not greater than 5,000 acres in size or of sufficient size as to make practicable their preservation and use in an unimpaired condition; and (3) do not meet the wilderness character criteria listed in the Wilderness Act and NPS Management Policies (2006). As a result of these findings, the NPS has determined that lands within the Obed WSR do not warrant further study for possible designation as wilderness.

ADDRESSES: A map of the lands assessed is on file at Big South Fork National River and Recreation Area Headquarters, 4564 Leatherwood Road, Oneida, Tennessee 37841.

FOR FURTHER INFORMATION CONTACT: Superintendent Niki Stephanie Nicholas, Obed Wild and Scenic River, by phone at 423-569-9778, via email at OBRI_Superintendent@nps.gov, or by mail at Big South Fork National River and Recreation Area, 4564 Leatherwood Road, Oneida, Tennessee 37841.

SUPPLEMENTARY INFORMATION: Obed WSR comprises approximately 5,530 acres on the Cumberland Plateau of eastern Tennessee. The wild and scenic designation encompasses 45 miles of the Obed River and its tributaries, including Clear Creek, Daddys Creek, and the Emory River. Of the total acreage within the boundary, only about 2,664 acres, in noncontiguous tracts, are owned in fee by the Federal government.

The Primary Eligibility Criteria found in Section 6.2.1.1 of NPS Management Policies was reviewed to evaluate Obed WSR's wilderness eligibility. Based on this review, the NPS has determined that none of the acreage administered by the NPS at Obed Wild and Scenic River is eligible for designation as wilderness. While parts of the wild and scenic river are roadless, undeveloped, and appear to have been affected primarily by the forces of nature, no single area is over 5,000 acres in size or is of sufficient size to make practicable its preservation and use as wilderness in an unimpaired condition. Areas owned in fee by the NPS are interspersed with lands owned by the State of Tennessee and by private parties. The fragmentation of the NPS fee lands and their small size precludes their effective management as wilderness.

A public notice announcing the NPS's intention to conduct this eligibility assessment was placed in the Federal Register on December 20, 2016. A previous press release had been issued to local media on August 22, 2016 informing the public of the assessment process. The NPS received no comments on either the press release or the subsequent notice.

Given that lands at Obed WSR are not eligible for wilderness consideration, a wilderness study will not be prepared pursuant to Management Policies Section 2.2.2.

Dated: September 5, 2019.
Robert A. Vogel,
Regional Director.

[FR Doc. 2019-20560 Filed 9-20-19; 8:45 am]

BILLING CODE 4312-52-P